NUCLEAR REGULATORY COMMISSION

[NRC-2023-0001]

Sunshine Act Meetings

TIME AND DATE: Weeks of August 7, 14, 21, 28, September 4, 11, 2023. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public.

Members of the public may request to receive the information in these notices electronically. If you would like to be added to the distribution, please contact the Nuclear Regulatory Commission, Office of the Secretary, Washington, DC 20555, at 301-415-1969, or by email at Wendy.Moore@nrc.gov.

MATTERS TO BE CONSIDERED:

Week of August 7, 2023

There are no meetings scheduled for the week of August 7, 2023.

Week of August 14, 2023—Tentative

Monday, August 14, 2023

2:00 p.m. Affirmation Session (Public Meeting) (Tentative)

Final Rule: Emergency Preparedness for Small Modular Reactors and Other New Technologies (RIN 3150-AJ68; NRC-2015-0225) (Tentative) (Contact: Wesley Held: 301-287-3591).

Additional Information: The public is invited to attend the Commission's meeting live; via teleconference. Details for joining the teleconference in listen only mode can be found at https://www.nrc.gov/pmns/mtg.

Week of August 21, 2023—Tentative

There are no meetings scheduled for the week of August 21, 2023.

Week of August 28, 2023—Tentative

There are no meetings scheduled for the week of August 28, 2023.

Week of September 4, 2023—Tentative

There are no meetings scheduled for the week of September 4, 2023.

Week of September 11, 2023—Tentative

Tuesday, September 12, 2023

10:00 a.m. All Employees Meeting (Public Meeting); (Contact: Anthony de Jesus: 301-287-9219; Adrienne Brown: 301-415-3764)

Additional Information: The meeting will be held in the Two White Flint North auditorium, 11555 Rockville Pike, Rockville, Maryland. The public is invited to attend the Commission's meeting live by webcast at the Web address— https://video.nrc.gov/.

Thursday, September 14, 2023

10:00 a.m. Briefing on NRC International Activities (Closed—Ex. 1 & 9)

CONTACT PERSON FOR MORE INFORMATION: For more information or to verify the status of meetings, contact Wesley Held at 301-287-3591 or via email at Wesley.Held@nrc.gov.

The NRC is holding the meetings under the authority of the Government in the Sunshine Act, 5 U.S.C. 552b.

Dated: August 4, 2023.
For the Nuclear Regulatory Commission.
Monika G. Coflin,
Technical Coordinator, Office of the Secretary.

[FR Doc. 2023-17094 Filed 8-4-23; 4:15 pm]

BILLING CODE 7590-01-P